DEPARTMENT OF HOMELAND SECURITY

Federal Emergency Management Agency

44 CFR Part 67

[Docket ID FEMA-2010-0003; Internal Agency Docket No. FEMA-B-1087]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before May 11, 2010.

ADDRESSES: The corresponding preliminary Flood Insurance Rate Map (FIRM) for the proposed BFEs for each community is available for inspection at the community's map repository. The respective addresses are listed in the table below.

You may submit comments, identified by Docket No. FEMA-B-1087, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ∧ Elevation in meters (MSL): Effective | * Elevation in feet (NGVD) + Elevation in feet (NAVD) # Depth in feet above ground ∧ Elevation in meters (MSL): Modified | Communities affected
Matanuska-Susitna Borough, Alaska, and Incorporated Areas
Susitna River | Approximately 11 miles northwest of the intersection of Talkeetna Road and Comsat Road | None | +336 | Borough of Matanuska-Susitna.
| Approximately 1,100 feet downstream of the confluence with the Chulitna River | None | +355
Talkeetna River | Approximately 900 feet downstream of the railroad bridge north of Talkeetna | None | +348 | Borough of Matanuska-Susitna.
| Approximately 400 feet downstream of the confluence with Whiskey Slough | None | +394
Twister Creek | Just downstream of South Talkeetna Road Spur | None | +345 | Borough of Matanuska-Susitna.
| At the divergence from the Talkeetna River | None | +381
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Borough of Matanuska-Susitna
Maps are available for inspection at 350 East Dahlia Avenue, Palmer, AK 99645.
Chicot County, Arkansas, and Incorporated Areas
Flooding effects of Caney Bayou | Approximately 0.55 mile north of the intersection of Grant Street and Beouff Street | None | +110 | City of Eudora.
| Approximately 1,035 feet south of the intersection of Camille Street and Lee Street | None | +110
Macon Bayou | Just upstream of Private Road | None | +108 | City of Eudora.
| Just upstream of Verser Road | None | +108
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Eudora
Maps are available for inspection at City Hall, 239 South Main Street, Eudora, AR 71640.
Conway County, Arkansas, and Incorporated Areas
Arkansas River | Approximately 1.0 mile downstream of State Highway 9 | None | +295 | Unincorpo­rated Areas of Conway County.
| Approximately 1.0 mile upstream of Lock & Dam #9 | None | +303
Caney Creek | Approximately 1,300 feet downstream of the confluence with Park Creek | None | +306 | Unincorpo­rated Areas of Conway County.
| Approximately 0.6 mile upstream of State Highway 9 | None | +325
Cherokee Creek | Just downstream of the Union Pacific Railroad | None | +311 | Unincorpo­rated Areas of Conway County.
| Just downstream of Green Lane | None | +319
Point Remove Creek | At the confluence with the Arkansas River | None | +299 | Unincorpo­rated Areas of Conway County.
| Approximately 2.0 miles upstream of Old Cherokee Road | None | +301
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Conway County
Maps are available for inspection at 117 South Moose Street, Morrilton, AR 72110.
Desha County, Arkansas, and Incorporated Areas
Canal No. 18 | Approximately 1.0 mile downstream of the Missouri Pacific Railroad | None | +137 | Unincorpo­rated Areas of Desha County.
| Approximately 1,300 feet upstream of State Highway 1 | None | +142
Canal No. 19 | Approximately 0.5 mile downstream of U.S. Highway 165 | None | +157 | Unincorpo­rated Areas of Desha County.
| Approximately 1,300 feet upstream of U.S. Highway 165 | None | +157
Ditch No. 6 | Just upstream of Burnett Street | None | +164 | Unincorpo­rated Areas of Desha County.
| Just upstream of State Highway 159 | None | +164
Little Bayou Macon | Approximately 556 feet upstream from the confluence with Canal No. 18 | None | +137 | Unincorpo­rated Areas of Desha County.
| Approximately 2.0 miles upstream of State Highway 1 | None | +141
| Just upstream of County Road 324 | None | +141
| Approximately 0.5 mile upstream of State Highway 4 | None | +142
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Desha County
Maps are available for inspection at 608 Robert Moore Avenue, Arkansas City, AR 71630.
Stephenson County, Illinois, and Incorporated Areas
Indian Creek | Approximately 0.61 mile above State Route 73 | +785 | +782 | Unincorpo­rated Areas of Stephenson County.
| Approximately 0.78 mile above State Route 73 | +785 | +782
Pecatonica River | Approximately 1.2 mile below North Rock City Road | None | +749 | Village of Ridott.
| Approximately 1.93 mile above North Rock City Road | None | +754
Pecatonica River | Approximately 0.43 mile below Route 75 (Stephenson Street) | +763 | +762 | City of Freeport.
| Approximately 4.0 miles above Route 26 | None | +767
Pecatonica River | Approximately 1.61 mile above West McConnell Road | +780 | +779 | Unincorpo­rated Areas of Stephenson County.
| Illinois/Wisconsin State boundary | +785 | +782
Yellow Creek | Approximately 400 feet downstream of Pearl City Road | None | +814 | Unincorpo­rated Areas of Stephenson County.
| Approximately 0.49 mile upstream of Pearl City Road | None | +815
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Freeport
Maps are available for inspection at City Hall, 230 West Stephenson Street, Freeport, IL 61032.
Unincorporated Areas of Stephenson County
Maps are available for inspection at the County Courthouse, 15 North Galena Avenue, Freeport, IL 61032.
Village of Ridott
Maps are available for inspection at the Village Hall, 200 East 3rd Street, Ridott, IL 61067.
Whiteside County, Illinois, and Incorporated Areas
French Creek | Approximately 3,100 feet downstream of Portland Avenue | None | +623 | Unincorpo­rated Areas of Whiteside County.
| Approximately 1,700 feet downstream of Lyndon Road | None | +659
Interior Drainage | Approximately at Wares Lake landward/east of the Fulton Illinois LFPP Levee and north of Melody Hills Street | None | +584 | Unincorpo­rated Areas of Whiteside County.
| Approximately at Cattail Slough, west of State Route 84/Waller Road | None | +584
Mississippi River | Approximately 0.6 mile downstream of Meredosia Road extended | +586 | +588 | Unincorpo­rated Areas of Whiteside County.
| Approximately 180 feet downstream of Garret Street extended | +588 | +589
| Approximately 780 feet upstream of Lock and Dam No. 13 | +594 | +593
| Approximately 2.1 miles upstream of Lock and Dam No. 13 | +594 | +593
Mississippi River | Approximately 920 feet upstream of Meredosia Road extended | +587 | +588 | Village of Albany.
| Approximately 380 feet downstream of the confluence with Spring Creek | +588 | +589
Rock Creek | Approximately 1,560 feet upstream of the confluence with French Creek | None | +622 | Unincorpo­rated Areas of Whiteside County.
| Approximately 750 feet upstream of Damen Road extended | None | +636
Rock River | Approximately 1.6 mile downstream of State Route 78/Bishop Road | None | +601 | City of Prophets­town.
| Approximately 1.1 mile downstream of the confluence with Walker Slough | None | +605
Rock River | Approximately 1,820 feet downstream of 12th Avenue/Avenue G | None | +630 | City of Rock Falls, City of Sterling.
| Approximately 0.46 mile upstream of Government Dam | None | +640
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Prophetstown | Maps are available for inspection at City Hall, 339 Washington Street, Prophetstown, IL 61277.
City of Rock Falls
Maps are available for inspection at City Hall, 603 West 10th Street, Rock Falls, IL 61071.
City of Sterling
Maps are available for inspection at City Hall, 212 3rd Avenue, Sterling, IL 61081.
Unincorporated Areas of Whiteside County
Maps are available for inspection at the County Courthouse, 200 East Knox Street, Morrison, IL 61270.
Village of Albany
Maps are available for inspection at the Village Hall, 101 North Lime Street, Albany, IL 61230.
Marion County, Kansas, and Incorporated Areas
Clear Creek | At the confluence with Mud Creek | None | +1,319 | Unincorpo­rated Areas of Marion County.
| Approximately 250 feet upstream of Cedar Street | None | +1,319
Cottonwood River | Approximately 1,100 feet downstream of 5th Street | None | +1,272 | Unincorpo­rated Areas of Marion County.
| Approximately 775 feet upstream of West Main Street | None | +1,316
Cottonwood River Tributary | Approximately 1,100 feet upstream of Upland Road | None | +1,307 | Unincorpo­rated Areas of Marion County.
| Approximately 1,200 feet upstream of Tanglewood Street | None | +1,322
Doyle Creek | Approximately 1.1 mile downstream of 105th Street | None | +1,272 | Unincorpo­rated Areas of Marion County.
| Approximately 0.7 mile upstream of Maple Street | None | +1,367
Mud Creek | Approximately 1,000 feet upstream of the confluence with Cottonwood Creek | None | +1,316 | Unincorpo­rated Areas of Marion County, City of Marion.
| Approximately 1,200 feet upstream of the confluence with Clear Creek | None | +1,319
Old Mud Creek Channel | Approximately 1,100 feet downstream of Commercial Street | +1,303 | +1,299 | Unincorpo­rated Areas of Marion County, City of Marion.
| Approximately 1.6 mile upstream of Main Street | None | +1,300
Old Mud Creek Channel Tributary | At the confluence with Old Mud Creek Channel | +1,303 | +1,299 | City of Marion.
| At West Santa Fe Street | +1,303 | +1,304
Prairie Creek | At the confluence with Doyle Creek | None | +1,356 | Unincorpo­rated Areas of Marion County.
| Approximately 0.7 mile upstream of Old Mill Road | None | +1,390
Spring Creek | At Peabody Street | None | +1,368 | Unincorpo­rated Areas of Marion County.
| Approximately 1,325 feet upstream of 70th Street | None | +1,377
Tributary to Cottonwood River | Approximately 1,375 feet downstream of West Main Street | +1,304 | +1,299 | City of Marion.
| Approximately 75 feet downstream of West Main Street | +1,304 | +1,299
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Marion
Maps are available for inspection at City Hall, 208 East Sante Fe Street, Marion, KS 66861.
Unincorporated Areas of Marion County
Maps are available for inspection at the County Courthouse, 200 South 3rd Street, Marion, KS 66861.
Shawnee County, Kansas, and Incorporated Areas
Butcher Creek | Just upstream of Interstate 470 | None | +977 | City of Topeka, Unincorporated Areas of Shawnee County.
| Approximately 1,565 feet upstream of SE 45th Street | None | +994
Colly Creek | At the confluence with South Branch Shunganunga Creek | None | +952 | City of Topeka, Unincorporated Areas of Shawnee County.
| Approximately 300 feet upstream of SW Gage Boulevard | None | +988
Cross Creek | At the confluence with Kansas Creek | +918 | +919 | City of Rossville, Unincorporated Areas of Shawnee County.
| Approximately 0.6 mile upstream of U.S. Route 24 | +930 | +932
Deer Creek | At the confluence with Shunganunga Creek | +878 | +882 | City of Topeka, Unincorporated Areas of Shawnee County.
| Approximately 100 feet downstream of SE 45th Street | None | +967
Elevation Tributary | At the confluence with Shunganunga Creek | None | +976 | City of Topeka.
| At the confluence with Southwest Branch Elevation Creek | None | +986
Indian Hills Tributary | At the confluence with Shunganunga Creek | None | +958 | City of Topeka, Unincorporated Areas of Shawnee County.
| Approximately 580 feet upstream of SW Urish Road | None | +998
Shunganunga Creek | At the confluence with the Kansas River | +874 | +873 | Unincorpo­rated Areas of Shawnee County, City of Topeka.
| Approximately 280 feet upstream of Indian Hills Road | None | +1,013
Soldier Creek | At the confluence with the Kansas River | None | +880 | Unincorpo­rated Areas of Shawnee County, City of Topeka.
| Approximately 0.6 mile upstream of NW Menoken Road | None | +901
South Branch Shunganunga Creek | At the confluence with Shunganunga Creek | +914 | +917 | City of Topeka, Unincorporated Areas of Shawnee County.
| Approximately 250 feet upstream of Burlingame Road | None | +953
Southeast Branch Elevation Creek | At the confluence with Elevation Tributary | None | +986 | City of Topeka, Unincorporated Areas of Shawnee County.
| Approximately 0.7 mile upstream of SW Wanamaker Road | None | +1,031
Southwest Branch Elevation Creek | At the confluence with Elevation Tributary | None | +986 | City of Topeka.
| Approximately 0.5 mile upstream of SW 41st Street | None | +1,031
Wanamaker Main Branch | At the confluence with Kansas River | None | +885 | Unincorpo­rated Areas of Shawnee County, City of Topeka.
| Approximately 300 feet upstream of SW Robinson Avenue | None | +956
Wanamaker Northeast Branch | At the confluence with Wanamaker Main Branch | None | +937 | City of Topeka.
| Approximately 0.4 mile upstream of SW Robinson Avenue | None | +947
West Fork Butcher Creek | At the confluence with Butcher Creek | +944 | +943 | City of Topeka.
| Approximately 1,250 feet upstream of SE 45th Street | None | +1,000
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Rossville
Maps are available for inspection at City Hall, 438 Main Street, Rossville, KS 66533.
City of Topeka
Maps are available for inspection at the Engineering Division, 620 Southeast Madison Street, Topeka, KS 66603.
Unincorporated Areas of Shawnee County
Maps are available for inspection at the County Engineer's Office, 1515 Northwest Saline Street, Topeka, KS 66618.
Lowndes County, Mississippi, and Incorporated Areas
Tombigbee River | Approximately 3.3 miles downstream of the confluence with James Creek | +154 | +155 | Unincorpo­rated Areas of Lowndes County, City of Columbus.
| Approximately 1.4 mile downstream of State Highway 50 | +177 | +178
Tombigbee River Split Flow | Approximately 2.3 miles downstream of the confluence with Moore Creek | None | +166 | Unincorpo­rated Areas of Lowndes County, City of Columbus.
| Approximately 1.2 mile upstream of the confluence with Moore Creek | None | +168
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Columbus
Maps are available for inspection at City Hall, 523 Main Street, Columbus, MS 39701.
Unincorporated Areas of Lowndes County
Maps are available for inspection at the County Courthouse, 505 2nd Avenue North, Columbus, MS 39701.
Andrew County, Missouri, and Incorporated Areas
Missouri River | Approximately 1,250 feet upstream of the Buchanan County boundary | *821 | +825 | Unincorpo­rated Areas of Andrew County, City of Amazonia.
| Approximately 1,200 feet downstream of the Doniphan County boundary | *831 | +833
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Amazonia
Maps are available for inspection at 441 Spring Street, Amazonia, MO 64421.
Unincorporated Areas of Andrew County
Maps are available for inspection at 410 Court Street, Savannah, MO 64485.
Cooper County, Missouri, and Incorporated Areas
Missouri River | Approximately 1,500 feet downstream of the Moniteau County boundary | None | +587 | Unincorpo­rated Areas of Cooper County, City of Boonville.
| Approximately 2,500 feet downstream of the Saline County boundary | None | +610
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Boonville
Maps are available for inspection at 1200 Locust Street, Boonville, MO 65233.
Unincorporated Areas of Cooper County
Maps are available for inspection at 200 Main Street, Room 4, Boonville, MO 65233.
Moniteau County, Missouri, and Incorporated Areas
Missouri River | Approximately 3,000 feet upstream of the Cole County boundary | +573 | +574 | Unincorpo­rated Areas of Moniteau County, City of Lupus.
| Approximately 375 feet downstream of the Cooper County boundary | +588 | +587
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Lupus
Maps are available for inspection at 3750 Main Street, Lupus, MO 65046.
Unincorporated Areas of Moniteau County
Maps are available for inspection at 200 East Main Street, Room 103, California, MO 65018.
Ray County, Missouri, and Incorporated Areas
Crooked River | Approximately 2,700 feet downstream of State Highway 10 | +697 | +692 | Unincorpo­rated Areas of Ray County.
| Approximately 10,500 feet upstream of State Highway 10 | +698 | +697
Fire Branch Crooked River | Approximately 1,125 feet upstream of West 196th Street | +820 | +818 | Unincorpo­rated Areas of Ray County.
| Approximately 2,450 feet upstream of West 196th Street | +830 | +828
Fishing River | Approximately 100 feet downstream of West 60th Street | +717 | +713 | Unincorpo­rated Areas of Ray County, City of Orrick.
| Approximately 3,500 feet upstream of West 88th Street | +723 | +721
Keeney Creek | Approximately 2,350 feet upstream of the confluence with the Fishing River | +714 | +712 | Unincorpo­rated Areas of Ray County, City of Orrick.
| Approximately 3,000 feet upstream of West 73rd Street | +739 | +740
Missouri River | Approximately 700 feet downstream of the Lafayette County boundary | +692 | +689 | City of Camden, City of Hardin, City of Henrietta, Unincorporated Areas of Ray County.
| At Clay County boundary | +723 | +717
Tributary B | Approximately 7,500 feet upstream of Bollinger Road | +784 | +786 | Unincorpo­rated Areas of Ray County.
| Approximately 10,000 feet downstream of State Highway V | +787 | +789
West Fork Crooked River | Approximately 1,000 feet downstream of State Highway 13 | None | +729 | City of Richmond.
| Approximately 400 feet upstream of State Highway 13 | None | +733
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Camden
Maps are available for inspection at 105 Walnut Street, Camden, MO 64017.
City of Hardin
Maps are available for inspection at 100 East Main Street, Hardin, MO 64035.
City of Henrietta
Maps are available for inspection at 406 Main Street, Henrietta, MO 64036.
City of Orrick
Maps are available for inspection at 107 Kirkham Street, Orrick, MO 64077.
City of Richmond
Maps are available for inspection at 205 Summit Street, Richmond, MO 64085.
Unincorporated Areas of Ray County
Maps are available for inspection at 100 West Main Street, Richmond, MO 64085.
Stutsman County, North Dakota, and Incorporated Areas
Spiritwood Lake | Approximately 124 feet upstream of 4713 Street SE | +1,451 | +1,448 | City of Spiritwood Lake City, Unincorporated Areas of Stutsman County.
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Spiritwood Lake City
Maps are available for inspection at P.O. Box 642, Spiritwood Lake, ND 58402.
Unincorporated Areas of Stutsman County
Maps are available for inspection at 511 2nd Avenue Southeast, Jamestown, ND 58401.
Dawson County, Nebraska, and Incorporated Areas
North Channel Platte River | Approximately 1.2 mile downstream of Cottonwood Drive | +2,549 | +2,548 | City of Gothenburg.
| Just upstream of I-80 | +2,566 | +2,566
Platte River | Approximately 0.6 mile downstream of Plum Creek Parkway | +2,380 | +2,381 | City of Gothenburg, City of Lexington, Unincorporated Areas of Dawson County.
| Approximately 2.2 miles upstream of Plum Creek Parkway | +2,399 | +2,398
| Approximately 1.6 mile downstream of State Highway 47 | +2,551 | +2,550
| Approximately 2.2 miles upstream of State Highway 47 | +2,573 | +2,572
Spring Creek | Between 0.5 mile north of Road 758 and 0.4 mile south of Prospect Road and between Road 431 and Road 437 | #1 | #0 | City of Lexington, Unincorporated Areas of Dawson County.
| Between 0.5 mile north of Road 758 and 0.4 mile south of Prospect Road and between Road 431 and Road 437 | #2 | #0
| Between 0.5 mile north of Road 758 and 0.4 mile south of Prospect Road and between Road 431 and Road 437 | None | #1
| Between 0.5 mile north of Road 758 and 0.4 mile south of Prospect Road and between Road 431 and Road 437 | #2 | #1
| Between 0.5 mile north of Road 758 and 0.4 mile south of Prospect Road and between Road 431 and Road 437 | None | #2
| Between 0.5 mile north of Road 758 and 0.4 mile south of Prospect Road and between Road 431 and Road 437 | #1 | #2
| Between 0.5 mile north of Road 758 and 0.4 mile south of Prospect Road and between 0.4 mile east of Road 431 and 500 feet west of Road 432 | None | #3
| Between 600 feet north of West 17th Street and 300 feet south of West 17th Street and between North Washington Street and North Monroe Street | #1 | #3
| Between 1,000 feet north of Road 755 and 250 feet south of Road 755 and between Road 435 and 1,300 feet east of Road 435 | #2 | #3
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Gothenburg
Maps are available for inspection at 409 9th Street, Gothenburg, NE 69138.
City of Lexington
Maps are available for inspection at 406 East 7th Street, Lexington, NE 68850.
Unincorporated Areas of Dawson County
Maps are available for inspection at 700 North Washington Street, Lexington, NE 68850.
Otoe County, Nebraska, and Incorporated Areas
Missouri River | At easternmost tip of Otoe County limits | +913 | +914 | Unincorpo­rated Areas of Otoe County, City of Nebraska City.
| At State Highway 2/Burlington Northern Railroad | +930 | +931
| At Everett Lane extended | +940 | +943
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Nebraska City
Maps are available for inspection at 1409 Central Avenue, Nebraska City, NE 68410.
Unincorporated Areas of Otoe County
Maps are available for inspection at the County Courthouse, 1021 Central Avenue, Nebraska City, NE 68410.
Sullivan County, New York (All Jurisdictions)
Beaver Kill | Approximately 1.5 mile downstream of Old State Route 17 | None | +1,257 | Town of Rockland.
| At the confluence with Willowemoc Creek | +1,276 | +1,274
Callicoon Creek-East Branch Callicoon Creek | At the confluence with the Delaware River | +756 | +758 | Town of Delaware, Village of Jeffersonville.
| Approximately 50 feet upstream of Jefferson Lake Dam | +1,068 | +1,066
Cattail Brook | At the confluence with Willowemoc Creek | +1,420 | +1,418 | Town of Rockland.
| Approximately 1,324 feet upstream of Shandelee Road | None | +1,522
Delaware River | At the Delaware County boundary | +487 | +490 | Town of Fremont, Town of Cochecton, Town of Delaware, Town of Highland, Town of Lumberland, Town of Tusten.
| At the Orange County boundary | +840 | +842
Lake Jefferson | Approximately 1,000 feet upstream of Lake Jefferson Dam | None | +1,086 | Town of Delaware, Town of Bethel, Town of Callicoon.
| Approximately 0.9 mile upstream of Lake Jefferson Dam | None | +1,086
Middle Mongaup River | At the confluence with the Mongaup River | None | +1,143 | Town of Bethel.
| Approximately 1.3 mile upstream of Strong Road | None | +1,223
Mongaup River (Swinging Bridge Reservoir) | Approximately 0.7 mile downstream of State Route 17B | None | +1,075 | Town of Bethel.
| Approximately 1.2 mile upstream of Coopers Corner Road | None | +1,143
Neversink River | Approximately 1.5 mile upstream of State Highway 17 | None | +1,090 | Town of Fallsburg.
| Approximately 3.0 miles upstream of State Highway 17 | None | +1,095
Sprague Brook | At the confluence with Willowemoc Creek | +1,509 | +1,511 | Town of Rockland.
| Approximately 480 feet upstream of the confluence with Willowemoc Creek | +1,510 | +1,511
Stewart Brook | At the confluence with Willowemoc Creek | +1,289 | +1,288 | Town of Rockland.
| Approximately 1.6 mile upstream of Gulf Road | +1,393 | +1,392
Willowemoc Creek | At the confluence with Beaver Kill | +1,277 | +1,274 | Town of Rockland.
| Approximately 135 feet downstream of Hunter Lake Road | None | +1,647
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Bethel
Maps are available for inspection at the Town Hall, 3454 Route 55, Bethel, NY 12786.
Town of Callicoon
Maps are available for inspection at the Callicoon Town Hall, 19 Legion Street, Jeffersonville, NY 12748.
Town of Cochecton
Maps are available for inspection at the Town Clerk's Office, 111 Bernas Road, Cochecton, NY 12726.
Town of Delaware
Maps are available for inspection at the Delaware Town Hall, 104 Main Street, Hortonville, NY 12745.
Town of Fallsburg
Maps are available for inspection at the Fallsburg Code Enforcement Office, 5250 Main Street, South Fallsburg, NY 12779.
Town of Fremont
Maps are available for inspection at the Fremont Town Clerk's Office, 895 County Road 94, Hankins, NY 12741.
Town of Highland
Maps are available for inspection at the Highland Town Hall, 4 Proctor Road, Eldred, NY 12732.
Town of Lumberland
Maps are available for inspection at the Lumberland Municipal Offices, 1054 Proctor Road, Glen Spey, NY 12737.
Town of Rockland
Maps are available for inspection at the Rockland Town Hall, 95 Main Street, Livingston Manor, NY 12758.
Town of Tusten
Maps are available for inspection at the Tusten Town Hall, 210 Bridge Street, Narrowsburg, NY 12764.
Village of Jeffersonville
Maps are available for inspection at the Village Hall, 17 Center Street, Jeffersonville, NY 12748.
Richland County, Ohio, and Incorporated Areas
Clear Fork Mohican River | 0.72 mile above Benedict Road | None | +1,062 | Unincorpo­rated Areas of Richland County.
| 0.09 mile above State Route 95 | None | +1,068
Clear Fork Mohican River | 0.95 mile below Main Street | None | +1,161 | Village of Lexington.
| 0.23 mile above Lexington Ontario Road | None | +1,178
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Richland County
Maps are available for inspection at 1495 West Longview Avenue, Mansfield, OH 44906.
Village of Lexington
Maps are available for inspection at 44 Main Street, Lexington, OH 44904.
McCormick County, South Carolina, and Incorporated Areas
Clark Hill Reservoir/Lake Thurmond | Entire shoreline (within county) | None | +339 | Unincorpo­rated Areas of McCormick County, Town of Parksville.
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Parksville
Maps are available for inspection at the County Administrator's Office, 362 Airport Road, McCormick, SC 29835.
Unincorporated Areas of McCormick County
Maps are available for inspection at the County Administrator's Office, 362 Airport Road, McCormick, SC 29835.
Polk County, Wisconsin, and Incorporated Areas
Big Butternut Lake | Entire shoreline | None | +1216 | Unincorpo­rated Areas of Polk County, Village of Luck.
Clam Falls Flowage | Entire shoreline | None | +1030 | Unincorpo­rated Areas of Polk County.
Largon Lake | Entire shoreline | None | +1247 | Unincorpo­rated Areas of Polk County.
Little Butternut Lake | Entire shoreline | None | +1210 | Unincorpo­rated Areas of Polk County, Village of Luck.
Sand Lake | Entire shoreline | None | +1124 | Unincorpo­rated Areas of Polk County.
White Ash Lake | Entire shoreline | None | +1123 | Unincorpo­rated Areas of Polk County.
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
Village of Luck
Maps are available for inspection at 401 Main Street, Luck, WI 54853.
Unincorporated Areas of Polk County
Maps are available for inspection at Government Center, 100 Polk County Plaza, Balsam Lake, WI 54810.

(Catalog of Federal Domestic Assistance No. 97.022, “Flood Insurance.”)

Sandra K. Knight,
Deputy Assistant Administrator for Mitigation, Department of Homeland Security, Federal Emergency Management Agency.

[FR Doc. 2010-2920 Filed 2-9-10; 8:45 am]

BILLING CODE 9110-12-P